DEPARTMENT OF DEFENSE

Office of the Secretary

Federal Advisory Committee; Advisory Council on Dependents' Education (ACDE)

AGENCY: Department of Defense Education Activity (DoDEA).

ACTION: Cancellation of September 8 meeting; announcing November 12 and 19 open meetings.

SUMMARY: The meeting of the Advisory Council on Dependents' Education (ACDE) scheduled for September 8, 2010, is cancelled. The meeting was announced in the Federal Register on June 25, 2010 (75 FR 36373).

Under the provisions of the Federal Advisory Committee Act of 1972 (5 U.S.C., Appendix, as amended), the Government in the Sunshine Act of 1976 (5 U.S.C. 552b, as amended), and 41 CFR 102-3.150, the Department of Defense announces that the ACDE will meet on November 12, 2010, in Arlington, VA, and on November 19, 2010, in Riedstadt, Germany.

DATES: The meetings will be held:

1. Friday, November 12, 2010, from 8 a.m. to 11 a.m. (Eastern Standard Time), in Arlington, VA.

2. Friday, November 19, 2010, from 9 a.m. to 2 p.m. (Central European Time), in Riedstadt, Germany.

ADDRESSES: The meetings will be held:

1. Arlington—4040 North Fairfax Drive, Arlington, VA 22203.

2. Riedstadt—Best Western Hotel Riedstern, Stahlbaustrasse 17, Riedstadt, Germany 64560.

FOR FURTHER INFORMATION CONTACT: Committee's Point of Contact: Ms. Leesa Rompre, tel. (703) 588-3128, 4040 North Fairfax Drive, Arlington, VA 22203, e-mail Leesa.Rompre@hq.dodea.edu.

SUPPLEMENTARY INFORMATION:

September 8, 2010 Meeting

Pursuant to the Federal Advisory Committee Act, Appendix 2 of title 5, United States Code, Public Law 92-463, a notice published on June 25, 2010 (75 FR 36373), announcing a meeting of the ACDE scheduled to be held on September 8, 2010, from 8 a.m. to 3 p.m. has been cancelled.

November 12 and 19, 2010 Meetings

Purpose of the Meetings

Recommend to the Director, DoDEA, general policies for the operation of the Department of Defense Dependents Schools (DoDDS); to provide the Director with information about effective educational programs and practices that should be considered by DoDDS; and to perform other tasks as may be required by the Secretary of Defense.

Agenda

The meeting agendas will be the current operational qualities of schools, the continuous improvement processes, and other educational matters.

Public's Accessibility to the Meeting

Pursuant to 5 U.S.C. 552b and 41 CFR 102-3.140 through 102-3.165 and the availability of space, these meetings are open to the public. Seating is on a first-come basis.

Written Statements

Pursuant to 41 CFR 102-3.105(j) and 102-3.140 and section 10(a)(3) of the Federal Advisory Committee Act of 1972, the public or interested organizations may submit written statements to the Advisory Council on Dependents' Education about its mission and functions. Written statements may be submitted at any time or in response to the stated agenda of the planned meeting of the Advisory Council on Dependents' Education.

All written statements shall be submitted to the Designated Federal Officer for the Advisory Council on Dependents' Education and this individual will ensure that the written statements are provided to the membership for their consideration. For the next meeting of the Advisory Council on Dependents' Education, Dr. Patrick Dworakowski, 4040 North Fairfax Drive, Arlington, VA 22203; Patrick.Dworakowski@hq.dodea.edu, (703) 588-3111, will be acting in the capacity of the Designated Federal Officer for this committee.

Statements being submitted in response to the agenda mentioned in this notice must be received by the Acting Designated Federal Officer at the address listed above at least fourteen calendar days prior to the meeting, which is the subject of this notice. Written statements received after this date may not be provided to or considered by the Advisory Council on Dependents' Education until its next meeting.

The Acting Designated Federal Officer will review all timely submissions with the Advisory Council on Dependents' Education Chairpersons and ensure they are provided to all members of the Advisory Council on Dependents' Education before the meeting that is the subject of this notice.

Oral Statements by the Public to the Membership

Pursuant to 41 CFR 102-3.140(d), time will be allotted for public comments to the Advisory Council on Dependents' Education. Individual comments will be limited to a maximum of five minutes duration. The total time allotted for public comments will not exceed thirty minutes.

Dated: August 19, 2010.
Mitchell S. Bryman,
Alternate OSD Federal Register Liaison Officer, Department of Defense.

[FR Doc. 2010-20970 Filed 8-23-10; 8:45 am]

BILLING CODE 5001-06-P